NATIONAL TRANSPORTATION SAFETY BOARD

Sunshine Act Meeting

TIME AND DATE: 9:30am, Tuesday, June 29, 2021.

PLACE: Virtual.

STATUS: The one item may be viewed by the public through webcast only.

MATTERS TO BE CONSIDERED:

67259 Marine Accident Report—Capsizing and Sinking of the Commercial Fishing Vessel Scandies Rose, Sutwik Island, Alaska, December 31, 2019.

CONTACT PERSON FOR MORE INFORMATION: Candi Bing at (202) 590-8384 or by email at bingc@ntsb.gov.

Media Information Contact: Eric Weiss by email at eric.weiss@ntsb.gov or at (202) 314-6100.

This meeting will take place virtually. The public may view it through a live or archived webcast by accessing a link under “Webcast of Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: June 4, 2021.
Candi R. Bing,
Federal Register Liaison Officer.

[FR Doc. 2021-12111 Filed 6-4-21; 4:15 pm]

BILLING CODE 7533-01-P